CORPORATION FOR NATIONAL AND COMMUNITY SERVICE

NCCC Advisory Board Meeting

The Corporation for National and Community Service gives notice under Public Law 92-463 (Federal Advisory Committee Act), that it will hold a meeting of the National Civilian Community Corps (NCCC) Advisory Board. The Board advises the Director of the National Civilian Community Corps (NCCC) concerning the administration of the program and assists in the development and administration of the Corps.

Date and Time: Wednesday, February 2, 2005, 8:30 a.m. to 2 p.m.

Place: The meeting will be held in the offices of the Overseas Private Investment Corporation (OPIC), 1100 New York Ave, NW., Washington, DC 20527.

Status: Open.

Matters to be Considered: At this meeting the Board will discuss the future role of the Advisory Board to better support goals and strategic initiatives. Additionally, the Board will discuss issues related to developing program resources, recruitment, general awareness of the NCCC program and overall program operations.

Accommodations: Upon request, meeting notices will be made available in alternative formats to accommodate visual and hearing impairments. Anyone who needs an interpreter or other accommodation should notify to Corporation's contact person by 5 p.m. Monday, January 31, 2005.

FOR FURTHER INFORMATION CONTACT: Ms. Fran Campion, 1201 New York Avenue, NW., 9th Floor, Washington, DC 20525. Telephone (202) 606-5000, ext. 180. (T.D.D. (202) 565-2799).

Dated: January 26, 2005.
Thomas L. Bryant,
Associate General Counsel.

[FR Doc. 05-1848 Filed 1-28-05; 8:45 am]

BILLING CODE 6050-$$-P